DEPARTMENT OF DEFENSE

Office of the Secretary of Defense

Ballistic Missile Defense Advisory Committee; Meeting

ACTION: Notice of Advisory Committee meeting.

SUMMARY: The Ballistic Missile Defense (BMD) Advisory Committee will meet in closed session at the Consolidated Support Facility, 1901 North Moore Street, Suite 750, Arlington Virginia 22209, on March 2, 2000.

The mission of the BMD Advisory Committee is to advise the Secretary of Defense and Deputy Secretary of Defense, through the Under Secretary of Defense (Acquisition, Technology, and Logistics), on all matters relating to BMD acquisition, system development, and technology.

In accordance with section 10(d) of the Federal Advisory Committee Act, Public Law No. 92-463, as amended by 5 U.S.C., Appendix II, it is hereby determined that this BMD Advisory Committee meeting concerns matters listed in 5 U.S.C., 552b(c)(1), and that accordingly this meeting will be closed to the public.

Dated: February 16, 2000.
Linda M. Bynum,
OSD Federal Register Liaison Officer, Department of Defense.

[FR Doc. 00-4286 Filed 2-23-00; 8:45 am]

BILLING CODE 5001-10-M